EXPORT-IMPORT BANK OF THE U.S.

[Public Notice 82]

Agency Information Collection Activities: Submission for OMB Review; Comment Request

AGENCY: Export-Import Bank of the U.S.

ACTION: Notice and request for comments.

SUMMARY: The Export-Import Bank, as a part of its continuing effort to reduce paperwork and respondent burden, invites the general public and other Federal Agencies to comment on the proposed information collection, as required by the Paperwork Reduction Act of 1995. The form will be used by customers who originally applied for a multibuyer policy using EIB 92-50. Our customers will be able to submit this form on paper or electronically.

DATES: Written comments should be received on or before April 19, 2006.

ADDRESSES: Direct all comments to Mr. David Rostker, Office of Management and Budget, Office of Information and Regulatory Affairs, NEOB Room 10202, Washington, DC 20503 (202) 395-3897.

SUPPLEMENTARY INFORMATION: Title and Form Number: Application for Special Buyer Credit Limit (SBCL) Under Multi-Buyer Export Credit Insurance Policies.

Form Number: EIB 92-51.

OMB Number: None.

Type of Review: Regular.

Need and Use: The information requested enables the applicant to provide Ex-Im Bank with the information necessary to obtain legislatively required assurance of repayment and fulfills other statutory requirements.

Affected Public: The form affects entities involved in the export of U.S. goods & services.

Estimated Annual Respondents: 2,176.

Estimate time per Respondent: ½ hour.

Estimated Annual Burden: 1,088.

Frequency of Reporting or Use: When applying for insurance coverage.

Dated: March 14, 2006.
Solomon Bush,
Agency Clearance Office.

BILLING CODE 6690-01-M

[FR Doc. 06-2622 Filed 3-17-06; 8:45 am]

BILLING CODE 6690-01-C